DEPARTMENT OF COMMERCE

National Oceanic and Atmospheric Administration

[I.D. 072401A]

Small Takes of Marine Mammals Incidental to Specified Activities; Taking of Marine Mammals Incidental to Power Plant Operations

AGENCY: National Marine Fisheries Service (NMFS), National Oceanic and Atmospheric Administration (NOAA), Commerce.

ACTION: Notice of issuance of a renewal of a Letter of Authorization.

SUMMARY: In accordance with provisions of the Marine Mammal Protection Act (MMPA) as amended, notification is hereby given that a Letter of Authorization (LOA) to unintentionally take small numbers of pinnipeds incidental to routine operations of the Seabrook Station nuclear power plant, Seabrook, NH (Seabrook Station) has been issued to the North Atlantic Energy Service Corporation (North Atlantic).

DATES: Effective from October 19, 2001, until June 26, 2002.

ADDRESSES: A copy of the application, Environmental Assessment, LOA, and other materials used in this document are available by writing to Donna Wieting, Chief, Marine Mammal Conservation Division, Office of Protected Resources, NMFS, 1315 East-West Highway, Silver Spring, MD 20910-3225, or by telephoning one of the contacts listed here.

FOR FURTHER INFORMATION CONTACT: Simona Perry Roberts, (301) 713-2322, ext 106; Jonathan Wendland, (978) 281-9146.

SUPPLEMENTARY INFORMATION:

Background

Sections 101(a)(5)(A) of the MMPA (16 U.S.C. 1361 et seq.) direct the Secretary of Commerce to allow, upon request, the incidental, but not intentional taking of small numbers of marine mammals by U.S. citizens who engage in a specified activity (other than commercial fishing) within a specified geographical region if certain findings are made and regulations are issued.

Permission may be granted for periods of 5 years or less if NMFS finds that the taking will have no more than a negligible impact on the species or stock(s), will not have an unmitigable adverse impact on the availability of the species or stock(s) for subsistence uses, and if regulations are prescribed setting forth the permissible method of taking and the requirements pertaining to the monitoring and reporting of such taking.

Five-year regulations (effective from July 1, 1999 through June 30, 2004), including mitigation, monitoring, and reporting requirements, for the incidental taking of harbor seals (Phoca vitulina), gray seals (Halichoerus grypus), harp seals (Phoca groenlandica), and hooded seals (Cystophora cristata) by U.S. citizens engaged in power plant operations at the Seabrook Station nuclear power plant, Seabrook, NH are set out in 50 CFR 216.130 through.137.

Summary of Request

NMFS received a request from North Atlantic in June 2001 for renewal of their LOA, which expired on July 2, 2000, to lethally take 20 harbor seals and 4 of any combination of gray, harp, and hooded seals incidental to power plant operations at Seabrook Station.

Permissible Methods of Taking

According to 50 CFR 216.132, LOAs issued to North Atlantic for Seabrook Station authorize the incidental, but not intentional, take of harbor, gray, harp, and hooded seals in the course of operating the station's intake cooling water system. For a more complete description of the intake systems utilized at Seabrook Station please refer to the final rule (64 FR 28114, May 25, 1999).

Mitigation Requirements

NMFS, in the May 25, 1999, final rule (64 FR 28114), allowed North Atlantic to use the 5-year authorization period (July 1, 1999 through June 30, 2004) to fully explore any feasible mitigation methods, and if methods were not found to be suitable, to explore and undertake, in conjunction with NMFS, steps to promote the conservation of the population of Gulf of Maine seals as a whole.

Monitoring and Reporting Requirements

Monitoring under the renewed LOA must include: (1) twice daily visual inspection of the circulating water and service water forebays; (2) daily inspections of the intake transition structure from April 1 through December 1, unless weather conditions prevent safe access to the structure; (3) screen washings once per day during the peak months of seal takes and twice a week during non-peak months of seal takes; and, (4) examination of the screen wash debris to determine if any seal remains are present.

Seal takes must be reported to NMFS through both oral and written notification. NMFS must be notified via telephone by the close of business on the next day following the discovery of any marine mammal or marine mammal parts. Written notification to NMFS must be made within 30 days and must include the results of any examinations conducted by qualified members of the Marine Mammal Stranding Network as well as any other information relating to the take.

National Environmental Policy Act

NMFS issued an Environmental Assessment (EA) in 1998, in conjunction with the notice of proposed authorization. As a result of the findings made in the EA, NMFS concluded that implementation of either the preferred alternative or other identified alternatives would not have a significant impact on the human environment. Therefore, preparation of an environmental impact statement on these actions was not required by Section 102(2) of the National Environmental Policy Act or its implementing regulations. Copies of the 1998 EA and the Finding of No Significant Impact are available upon request (see ADDRESSES).

Determinations

NMFS has determined (see 64 FR 28114, May 25, 1999) that the taking of up to 20 harbor seals and 4 of any combination of gray, harp, and hooded seals, annually from July 1, 1999, through June 30, 2004, will have no more than a negligible impact (as defined in 50 CFR 216.3) on these stocks of marine mammals. The best scientific information available indicates that since 1981, the Western North Atlantic harbor seal stock has had an average annual rate of increase of 4.2 percent (Waring et al., 2000). In addition, the Western North Atlantic stocks of gray, harp, and hooded seals also appear to be increasing in abundance (Waring et al., 1999, 2000). The small number of takes at Seabrook Station relative to current population estimates is unlikely to reduce the rate of population growth for any of these pinniped stocks.

According to North Atlantic reports received in NMFS' Northeast Region, no seals have been entrapped since the installation of Seal Deterrent Barriers in August 1999.

Authorization

In recognition of the timely receipt and acceptance of the reports required under 50 CFR 216.135 and a determination that the mitigation measures required pursuant to 50 CFR 216.134 and the LOA have been undertaken, NMFS issued an LOA to the North Atlantic Energy Services Corporation on June 26, 2001, for the taking of harbor seals, gray seals, harp seals, and hooded seals incidental to routine operations of the Seabrook Station nuclear power plant, provided the mitigation, monitoring, and reporting requirements described in 50 CFR 216.134 through 135 and in the LOA are undertaken.

Dated: December 20, 2001.
David Cottingham
Acting Director, Office of Protected Resources, National Marine Fisheries Service.

[FR Doc. 01-32238 Filed 12-31-01; 8:45 am]

BILLING CODE 3510-22-S